GENERAL SERVICES ADMINISTRATION

41 CFR Part 301-11

[FTR Amendment 2009-03; FTR Case 2009-303; Docket Number 2009-0001, Sequence 3]

RIN 3090-AI88

Federal Travel Regulation (FTR); FTR Case 2009-303, Furnished Meals at Conferences and Other Events

Correction

In rule document E9-8176 beginning on page 16327 in the issue of Friday, April 10, 2009 make the following correction:

§301-11.18 [Corrected]

On page 16328, in the §301-11.18, in the table, in the sixth column, in the second entry, “1” should read “11”.

[FR Doc. Z9-8176 Filed 4-14-09; 8:45 am]

BILLING CODE 1505-01-D